DEPARTMENT OF COMMERCE

National Oceanic and Atmospheric Administration

[RTID 0648-XD980]

Endangered and Threatened Species; Take of Anadromous Fish

AGENCY: National Marine Fisheries Service (NMFS), National Oceanic and Atmospheric Administration (NOAA), Commerce.

ACTION: Notice of receipt; of one enhancement permit application and request for comment.

SUMMARY: Notice is hereby given that NMFS has received one permit application submitted by California Department of Fish and Wildlife (CDFW) to enhance the propagation and survival of species listed under the Endangered Species Act (ESA) of 1973, for a 5-year period. This document serves to notify the public of the availability of the permit application for review and comment, prior to a decision by NMFS whether to issue the permit. The permit application may be viewed online at: https://apps.nmfs.noaa.gov/preview/preview_open_for_comment.cfm.

DATES: Comments or requests for a public hearing on the application must be received at the appropriate address or fax number (see ADDRESSES) no later than 5 p.m. Pacific standard time on June 24, 2024.

ADDRESSES: Written comments on the application should be submitted to the NMFS California Central Valley Office, 650 Capitol Mall, Suite 5-100, Sacramento, CA 95814. Comments may also be submitted via fax to 916-930-3629, or by email to Allison.Bosworth@noaa.gov (include Permit Number 28026 in the subject line of the fax or email).

FOR FURTHER INFORMATION CONTACT: Allison Bosworth, Sacramento, CA (Phone: 916-358-0117; Email: Allison.Bosworth@noaa.gov).

SUPPLEMENTARY INFORMATION:

ESA-Listed Species Covered in This Notice

Chinook salmon (Oncorhynchus tshawytscha): threatened, naturally produced and hatchery propagated Central Valley (CV) spring-run.

Permit Application Received

Permit 28026

CDFW has applied for an enhancement of survival permit under section 10(a)(1)(A) of the ESA for a period of 5 years that would allow take of all life stages of CV spring-run Chinook salmon. CDFW proposes to begin testing and implementing reintroduction pilot work in North Yuba River and to build on existing knowledge from reintroduction efforts in other locations. A primary objective of the Proposed Project is that these collections do not have an adverse impact on the survival and recovery of the Evolutionarily Significant Unit (ESU) of Central Valley spring-run Chinook salmon and/or of the populations within each potential source stream. Spring-run Chinook salmon would be released to the Upper Yuba River designated as an experimental population under section 10(j) of the ESA.

The final 10(j) and 4(d) rules were issued by NMFS in December 2022 (87 FR 79808). The California Central Valley Salmon and Steelhead Recovery Plan (NMFS 2014) recognizes the value of establishing an Upper Yuba population and lists the implementation of a spring-run Chinook Salmon reintroduction strategy on the Upper Yuba River as a priority recovery action. In addition, the newly released California Salmon Strategy recognizes initiating a salmon reintroduction program in the Yuba River as a priority action to remove barriers and modernize infrastructure for salmon migration (Newsom 2024).

This application includes: (1) the collection of spring-run Chinook salmon eggs from Feather River Fish Hatchery (FRFH) and incubation instream or adjacent to North Yuba River; (2) the release of spring-run Chinook salmon juveniles into the North Yuba River and transport to lower Yuba River below Englebright Dam above Daguerre Point Dam; (3) the collection of FRFH adults to release into North Yuba River above impassable barriers to spawn naturally; (4) the use of various types of tags, marking, and genetic sampling for the purpose of tracking and monitoring; (5) implementing surveys of holding adults; (6) implementing spawning and carcass surveys; and (7) installation of approved nets and traps to aid in population monitoring.

Authority

Enhancement of survival permits are issued in accordance with section 10(a)(1)(A) of the ESA (16 U.S.C. 1531 et seq.) and regulations governing listed fish and wildlife permits (50 CFR part 222). NMFS issues permits based on findings that such permits: (1) are applied for in good faith; (2) if granted and exercised, would not operate to the disadvantage of the listed species that are the subject of the permit; (3) are consistent with the purposes and policies of section 2 of the ESA; and (4) further a bona fide and necessary or desirable scientific purpose or enhance the propagation or survival of the endangered species, taking into account the benefits anticipated to be derived on behalf of the endangered species; and additional issuance criteria as listed at 50 CFR 222.308(c)(5-12). The authority to take listed species is subject to conditions set forth in the permit.

Anyone requesting a hearing on an application listed in this notice should set out the specific reasons why a hearing on that application would be appropriate (see ADDRESSES). Such hearings are held at the discretion of the Assistant Administrator for Fisheries, NMFS.

Public Comments Solicited

NMFS invites the public to comment on the section 10(a)(1)(A) enhancement permit application during a 30-day public comment period beginning on the date of this notice. This notice is provided pursuant to section 10(c) of the ESA (16 U.S.C. 1529(c)). All comments and materials received, including names and addresses, will become part of the administrative record and may be released to the public. We provide this notice in order to allow the public, agencies, or other organizations to review and comment on these documents.

Next Steps

NMFS will evaluate the permit application, associated documents, and comments submitted to determine whether the applications meet the requirements of section 10(a)(1)(A) of the ESA and Federal regulations. The final permit decisions will not be made until after the end of the 30-day public comment period and after NMFS has fully considered all relevant comments received. NMFS will publish notice of its final action in the Federal Register.

Dated: May 20, 2024.
Angela Somma,
Chief, Endangered Species Division, Office of Protected Resources, National Marine Fisheries Service.

[FR Doc. 2024-11466 Filed 5-23-24; 8:45 am]

BILLING CODE 3510-22-P